DEPARTMENT OF LABOR

Employment and Training Administration

[TA-W-61,236]

Precision Technologies Incorporated; Reno, PA; Notice of Termination of Investigation

Pursuant to Section 221 of the Trade Act of 1974, as amended, an investigation was initiated on April 3, 2007 in response to a petition filed by a company official on behalf of workers at Precision Technologies Incorporated, Reno, Pennsylvania.

The petitioner has requested that the petition be withdrawn. Consequently, the investigation has been terminated.

Signed in Washington, DC, this 23rd day of April 2007.
Linda G. Poole,
Certifying Officer, Division of Trade Adjustment Assistance.

[FR Doc. E7-8468 Filed 5-2-07; 8:45 am]

BILLING CODE 4510-FN-P